DEPARTMENT OF HOMELAND SECURITY

Federal Emergency Management Agency

Agency Information Collection Activities: Submission for OMB Review; Comment Request

AGENCY: Federal Emergency Management Agency, DHS.

ACTION: Notice; 30-day notice and request for comments; Reinstatement, with change, of a previously approved collection for which approval has expired, 1660-0059, FEMA Form 517-1, FEMA Form 512-1.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Collection of Information

Title: National Flood Insurance Program Call Center and Agent Referral Enrollment Form.

OMB Number: 1660-0059.

Form Number(s): FEMA Form 517-1, Agent Referral Program Enrollment and FEMA Form 512-1, FEMA Inbound Script.

Abstract: The information collection serves two purposes: (1) Allows the NFIP to service requests for flood insurance information or agent referral services from potential purchasers through calls to the toll-free number or by visiting the Web site, and (2) allows insurance agents to enroll in the Agent Referral Program and Agent Co-Op Program. Should the request include an insurance agent referral, the name and business address of insurance agents in the caller's geographic area, who are enrolled in the referral service, are provided.

Affected Public: Individuals or households; Business or other for-profit; Not-for-profit institutions.

Number of Respondents: 81,796.

Estimated Time per Respondent: .048 minutes.

Estimated Total Annual Burden Hours: 3,943 Hours.

Frequency of Response: Once.

Comments: Interested persons are invited to submit written comments on the proposed information collection to the Office of Information and Regulatory Affairs, Office of Management and Budget. Comments should be addressed to Desk Officer for the Department of Homeland Security, Federal Emergency Management Agency, and sent via electronic mail to oira.submission@omb.eop.gov or faxed to (202) 395-6974. Comments must be submitted on or before February 23, 2009.

FOR FURTHER INFORMATION CONTACT: Requests for additional information or copies of the information collection should be made to Acting Director, Records Management Division, 500 C Street, SW., Washington, DC 20472, Mail Drop Room 301, facsimile number (202) 646-3347, or e-mail address FEMA-Information-Collections@dhs.gov.

Samuel C. Smith,
Acting Director, Office of Records Management, Office of Management, Federal Emergency Management Agency, Department of Homeland Security.

[FR Doc. E9-1287 Filed 1-22-09; 8:45 am]

BILLING CODE 9110-41-P